DEPARTMENT OF ENERGY

Federal Energy Regulatory Commission

Combined Notice of Filings #1

Take notice that the Commission received the following electric rate filings:

Docket Numbers: ER10-2531-004.

Applicants: Cedar Creek Wind Energy, LLC.

Description: Amendment to December 17, 2013 Updated Market Power Analysis in the Northwest region of Cedar Creek Wind Energy, LLC.

Filed Date: 4/2/14.

Accession Number: 20140402-5091.

Comments Due: 5 p.m. ET 4/23/14.

Docket Numbers: ER14-591-003.

Applicants: Southwest Power Pool, Inc.

Description: 2635 LES GIA—Second Amended Compliance Filing to be effective 11/26/2013.

Filed Date: 4/2/14.

Accession Number: 20140402-5067.

Comments Due: 5 p.m. ET 4/23/14.

Docket Numbers: ER14-1639-000.

Applicants: ISO New England Inc., New England Power Pool Participants Committee.

Description: Demand Curve Changes to be effective 6/1/2014.

Filed Date: 4/1/14.

Accession Number: 20140401-5290.

Comments Due: 5 p.m. ET 4/22/14.

Docket Numbers: ER14-1640-000.

Applicants: Entergy Gulf States Louisiana, L.L.C.

Description: EGSL MSS-3 Amendment 4-1-2014 to be effective 5/31/2014.

Filed Date: 4/1/14.

Accession Number: 20140401-5293.

Comments Due: 5 p.m. ET 4/22/14.

Docket Numbers: ER14-1641-000.

Applicants: Entergy Louisiana, LLC.

Description: ELL MSS-3 Amendment 4-1-2014 to be effective 5/31/2014.

Filed Date: 4/1/14.

Accession Number: 20140401-5294.

Comments Due: 5 p.m. ET 4/22/14.

Docket Numbers: ER14-1642-000.

Applicants: Entergy Mississippi, Inc.

Description: EMI MSS-3 Amendment 4-1-2014 to be effective 5/31/2014.

Filed Date: 4/1/14.

Accession Number: 20140401-5295.

Comments Due: 5 p.m. ET 4/22/14.

Docket Numbers: ER14-1643-000.

Applicants: Entergy New Orleans, Inc.

Description: ENOI MSS-3 Amendment 4-1-2014 to be effective 5/31/2014.

Filed Date: 4/1/14.

Accession Number: 20140401-5297.

Comments Due: 5 p.m. ET 4/22/14.

Docket Numbers: ER14-1644-000.

Applicants: Entergy Texas, Inc.

Description: ETI MSS-3 Amendment 4-1-2014 to be effective 5/31/2014.

Filed Date: 4/1/14.

Accession Number: 20140401-5298.

Comments Due: 5 p.m. ET 4/22/14.

Docket Numbers: ER14-1645-000.

Applicants: Midcontinent Independent System Operator, Inc. Entergy Services, Inc.

Description: 2014-04-01—Schedule 47—Entergy Transition Cost Recovery Filing to be effective 6/1/2014.

Filed Date: 4/1/14.

Accession Number: 20140401-5317.

Comments Due: 5 p.m. ET 4/22/14.

Docket Numbers: ER14-1646-000.

Applicants: Oklahoma Gas and Electric Company.

Description: Notice of Termination to be effective 5/31/2014.

Filed Date: 4/1/14.

Accession Number: 20140401-5381.

Comments Due: 5 p.m. ET 4/22/14.

Docket Numbers: ER14-1647-000.

Applicants: California Independent System Operator Corporation.

Description: 2014-04-01 NSPGA with Elk Hills to be effective 6/1/2014.

Filed Date: 4/1/14.

Accession Number: 20140401-5390.

Comments Due: 5 p.m. ET 4/22/14.

Take notice that the Commission received the following electric reliability filings:

Docket Numbers: RR14-2-000.

Applicants: North American Electric Reliability Corporation.

Description: Updating revised definition of Bulk Electric System Definition Phase 2 in the NERC Rules of Procedure of North American Electric Reliability Corporation.

Filed Date: 4/1/14.

Accession Number: 20140401-5353.

Comments Due: 5 p.m. ET 5/1/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 2, 2014.
Nathaniel J. Davis, Sr.,
Deputy Secretary.

[FR Doc. 2014-07964 Filed 4-9-14; 8:45 am]

BILLING CODE 6717-01-P